DEPARTMENT OF ENERGY

Federal Energy Regulatory Commission

[Project No. 12481-002]

AMG Energy, LLC; Notice of Surrender of Preliminary Permit

January 12, 2006.

Take notice that AMG Energy, LLC, permittee for the proposed Selden Dam Project, has requested that its preliminary permit be terminated. The permit was issued on April 20, 2004, and would have expired on March 31, 2007.¹ The project would have been located on the Black Warrior River in Greene and Hale Counties, Alabama.

¹ 107 FERC ¶ 62,053.

The permittee filed the request on December 7, 2005, and the preliminary permit for Project No. 12481 shall remain in effect through the thirtieth day after issuance of this notice unless that day is a Saturday, Sunday, part-day holiday that affects the Commission, or legal holiday as described in section 18 CFR 385.2007, in which case the effective date is the first business day following that day. New applications involving this project site, to the extent provided for under 18 CFR Part 4, may be filed on the next business day.

Magalie R. Salas,
Secretary.

[FR Doc. E6-598 Filed 1-19-06; 8:45 am]

BILLING CODE 6717-01-P